DEPARTMENT OF DEFENSE

Department of the Army

[Docket ID: USA-2008-0033]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0351b TRADOC

System name:

Army Correspondence Course Program (ACCP) (December 1, 2000, 65 FR 75252).

Changes:

* * * * *

System location:

Delete entry and replace with “Commander, U.S. Army Training Support Center, 3308 Wilson Avenue, Fort Eustis, VA 23604-5166.”

* * * * *

Authority for maintenance of the system:

Delete entry and replace with “10 U.S.C. 3013, Secretary of the Army; AR 350-10, Management of Army Individual Training Requirements and Resources; and E.O. 9397 (SSN).”

* * * * *

Storage:

Delete entry and replace with “Electronic Storage Media.”

* * * * *

Retention and disposal:

Student records indicating courses attended, course length, extent of completion, results, aptitudes and personal qualities, grade, rating attained and related information destroy after 40 years. Cut off annually. Records of extension courses, however, will be held for 3 years in current file area and 2 years in records holding area before retirement to National Personnel Records Center, 9700 Page Avenue, St. Louis, MO 63132-5100.

* * * * *

Notification procedure:

Delete entry and replace with “Individuals seeking to determine whether information about themselves is contained in this system should address written inquiries to the Commander, U.S. Army Training Support Center, 3308 Wilson Avenue, Fort Eustis, VA 23604-5166.

Individual should provide full name, Social Security Number, and signature for identification.

Individual making request in person must provide acceptable identification such as driver's license and military identification.”

Record access procedures:

Delete entry and replace with “Individuals seeking access to information about themselves contained in this system should address written inquiries to the Commander, U.S. Army Training Support Center, 3308 Wilson Avenue, Fort Eustis, VA 23604-5166.

Individual should provide full name, Social Security Number, and signature for identification.

Individual making request in person must provide acceptable identification such as driver's license and military identification.”

* * * * *

A0351b TRADOC

System name:

Army Correspondence Course Program (ACCP).

System location:

Commander, U.S. Army Training Support Center, 3308 Wilson Avenue, Fort Eustis, VA 23604-5166.

Categories of individuals covered by the system:

Members of the Army, Navy, Marine Corps, and Air Force, Reserve Officer Training Corps and National Defense Cadet Corps students, Department of Defense civilian employees, and approved foreign military personnel enrolled in a non-resident course administered by the Army Institute for Professional Development.

Categories of records in the system:

Files contain name, grade/rank, Social Security Number, address, service component, branch, personnel classification, military occupational specialty, credit hours accumulated, examination and lesson grades, student academic status, curricula, course description.

Authority for maintenance of the system:

10 U.S.C. 3013, Secretary of the Army; AR 350-10, Management of Army Individual Training Requirements and Resources; and E.O. 9397 (SSN).

Purpose(s):

To record lessons and/or exam grades; maintain student academic status; course and subcourse descriptions; produce course completion certificates and reflect credit hours earned; and produce management summary reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the Army's compilation of systems of records notices also apply to this system.

Policies and practices for storing, retrieving, accessing, retaining, and disposing of records in the system:

Storage:

Electronic storage media.

Retrievability:

By name and Social Security Number.

Safeguards:

Use of individual user identification and passwords are required to access the system. Access is granted to designated personnel at the Army Institute for Professional Development responsible for the administration and processing of non-resident students. Access is also granted to students and former students for the purpose of enrolling, testing, monitoring status, and reviewing academic history.

Retention and disposal:

Student records indicating courses attended, course length, extent of completion, results, aptitudes and personal qualities, grade, rating attained, and related information destroy after 40 years. Cut off annually. Records of extension courses, however, will be held for 3 years in current file area and 2 years in records holding area before retirement to National Personnel Records Center, 9700 Page Avenue, St. Louis, MO 63132-5100.

System manager(s) and address:

Commander, Army Training Support Center, 667 Monroe Avenue, Fort Eustis, VA 23604-5040.

Notification procedure:

Individuals seeking to determine whether information about themselves is contained in this system should address written inquiries to the Commander, U.S. Army Training Support Center, 3308 Wilson Avenue, Fort Eustis, VA 23604-5166.

Individual should provide full name, Social Security Number, and signature for identification.

Individual making request in person must provide acceptable identification such as driver's license and military identification.

Record access procedures:

Individuals seeking access to information about themselves contained in this system should address written inquiries to the Commander, U.S. Army Training Support Center, 3308 Wilson Avenue, Fort Eustis, VA 23604-5166.

Individual should provide full name, Social Security Number, and signature for identification.

Individual making request in person must provide acceptable identification such as driver's license and military identification.

Contesting record procedures:

The Army's rules for accessing records, contesting content, and appealing initial agency determinations are contained in Army Regulation 340-21; 32 CFR part 505; or may be obtained from the system manager.

Record source categories:

From individual upon enrollment, from class records and instructors, and from graded examinations.

Exemptions claimed for the system:

None.

[FR Doc. E8-17011 Filed 7-24-08; 8:45 am]

BILLING CODE 5001-06-P